INTERNATIONAL TRADE COMMISSION

[Inv. No. 337-TA-659]

Certain Prepregs, Laminates, and Finished Circuit Boards: Notice of Institution of Formal Enforcement Proceeding

AGENCY: U.S. International Trade Commission.

ACTION: Notice.

SUMMARY: Notice is hereby given that the U.S. International Trade Commission has instituted a formal enforcement proceeding relating to the April 10, 2009, consent order issued in the above-captioned investigation.

FOR FURTHER INFORMATION CONTACT: James A. Worth, Office of the General Counsel, U.S. International Trade Commission, 500 E Street SW., Washington, DC 20436, telephone (202) 205-3065. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: This investigation was instituted on November 12, 2008, based upon a complaint filed on behalf of Isola USA Corp. of Chandler, Arizona (“Isola”) on October 6, 2008, and supplemented on October 28, 2008. 73 FR 66919 (November 12, 2008). The complaint alleged violations of section 337 of the Tariff Act of 1930 (19 U.S.C. § 1337) in the importation into the United States, the sale for importation, and the sale within the United States after importation of certain prepregs, laminates, and finished circuit boards that infringe certain claims of United States Patent Nos. 6,187,852 (“the `852 patent”); 6,322,885 (“the `885 patent”); and 6,509,414 (“the `414 patent”). The notice of investigation named seven firms as respondents.

On December 22, 2008, the Commission issued notice of its determinations not to review IDs terminating the investigation with respect to respondents Sanmina-SCI Corp. and ITEQ Corp. based on settlement agreements. On January 9, 2009, the Commission issued notice of its determination not to review an ID terminating the investigation with respect to the `414 patent. On May 19, 2009, the Commission issued notice of its determination not to review an ID terminating the investigation as to respondents VENTEC Electronics (Suzhou) Co., Ltd., VENTEC Electronics (HK) Co., Ltd., and VENTEC-Global Laminates USA LLC based on a consent order. On April 10, 2009, the Commission issued notice of its determination not to review an ID granting a joint motion to terminate the investigation as to Taiwan Union Technology Corp. (“TUC”) based on a consent order. On May 11, 2009, the Commission issued notice of its determination not to review an ID granting Isola's motion to withdraw the complaint as to respondent Guangdong Shengyi Sci. Tech Co., Ltd., and terminated the investigation.

On August 14, 2012, Isola filed a complaint for enforcement proceedings under Commission Rule 210.75(b). Isola asserts that TUC has violated the April 10, 2009, consent order by importing or causing to be imported infringing articles identified as TU-862 HF and TU-86P HF. The consent order at issue prohibited activities such as importing, offering for sale, and selling for importation into the United States prepregs and laminates that are the subject of this investigation or that otherwise infringe, induce, and/or contribute to the infringement of claims 1-3, 5, and 8 of the `852 patent and claims 1, 2, 4, and 7-9 of the `885 patent.

Having examined the complaint seeking a formal enforcement proceeding, and having found that the complaint complies with the requirements for institution of a formal enforcement proceeding contained in Commission Rule 210.75, the Commission has determined to institute formal enforcement proceedings to determine whether TUC is in violation of the April 10, 2009, consent order issued in the investigation, and what, if any, enforcement measures are appropriate. The following entities are named as parties to the formal enforcement proceeding: (1) Isola; (2) respondent TUC; and (3) the Office of Unfair Import Investigations.

The authority for the Commission's determination is contained in section 337 of the Tariff Act of 1930, as amended (19 U.S.C. § 1337), and in section 210.75 of the Commission's Rules of Practice and Procedure (19 CFR 210.75).

By Order of the Commission.
Issued: October 2, 2012.
William R. Bishop,
Hearings and Meetings Coordinator.

[FR Doc. 2012-24642 Filed 10-4-12; 8:45 am]

BILLING CODE 7020-02-P